DEPARTMENT OF THE INTERIOR

National Park Service

[N6942; NPS-WASO-NAGPRA-NPS0042049; PPWOCRADN0-PCU00RP14.R50000]

Notice of Intended Repatriation: Haffenreffer Museum of Anthropology, Brown University, Bristol, RI

AGENCY: National Park Service, Interior.

ACTION: Notice.

SUMMARY: In accordance with the Native American Graves Protection and Repatriation Act (NAGPRA), the Haffenreffer Museum of Anthropology, Brown University (HMA) intends to repatriate certain cultural items that meet the definition of sacred objects and that have a cultural affiliation with the Indian Tribes or Native Hawaiian organizations in this notice.

DATES: Repatriation of the cultural items in this notice may occur on or after March 25, 2026.

ADDRESSES: Send additional, written requests for repatriation of the cultural items in this notice to Kellie Bowers, Brown University, Haffenreffer Museum of Anthropology, 300 Tower Street, Bristol, RI 02809, email kellie_bowers@brown.edu.

SUPPLEMENTARY INFORMATION: This notice is published as part of the National Park Service's administrative responsibilities under NAGPRA. The determinations in this notice are the sole responsibility of the HMA, and additional information on the determinations in this notice, including the results of consultation, can be found in the summary or related records. The National Park Service is not responsible for the determinations in this notice.

Abstract of Information Available

A total of four cultural items have been requested for repatriation. The four sacred objects are one tapa (or kapa), or textile (83-141a-b), one fishhook (61-472), one stone adze (68-10003), and one plaster cast of a god stick (60-4607). The tapa (or kapa), or textile (83-141a-b) is made of pounded bark. It was collected by Dr. W.M. Wood, U.S.N. in Hawaii in 1939. It was originally donated to the Smithsonian and was subsequently donated sometime in the 19th century to the Jenks Museum of Natural History (Jenks Museum) at Brown University. The fishhook (61-472) is made of bone and dates to the 19th century. It was carved in two parts and lashed together with olona plant fiber. Provenance for this item is unknown. The adze (68-10003) is a chipped and ground basalt blade. It was originally donated to the Jenks Museum by Jas. A. Law in the 19th century. The plaster cast of a god stick (60-4607) was a gift from the Roger Williams Museum Park Museum of Natural History. All items were removed from Hawaii. The HMA is unaware of any treatment of these items with hazardous substances.

Determinations

The HMA has determined that:

• The four sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the HMA must determine the most appropriate requestor prior to repatriation. Requests for joint repatriation of the cultural items are considered a single request and not competing requests. The HMA is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03566 Filed 2-20-26; 8:45 am]

BILLING CODE 4312-52-P